DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Standard Slide for Testing the Axial Resolution of Microscopes

Edward Cho and Stephen Lockett (NCI/SAIC—Frederick)

DHHS Reference No. E-148-2005/0—Research Tool

Licensing Contact: Michael Shmilovich; 301/435-5019; shmilovm@mail.nih.gov

Available for licensing as a research tool for both internal use or commercial distribution is a test slide for three-dimensional resolution. The U.S. Government has not applied for patent rights on this invention. The resolution of an optical system must be accurately measured in multiple dimensions when acquiring imaging data for biological or materials applications. Such measurements permit quantitative analysis of data obtained from the optical system. The invention is a microscope slide that can be adapted for a variety of microscopy applications (e.g., electron, confocal, widefield fluorescence, and deconvolution) to measure and resolve multiple points or objects in three-dimensional space by having objects of known distances separated in three dimensions. The slide is ideally suited to test the precision of the resolution of an optical system to determine the quality of the optical system and its separate components. This allows for proper quality control of existing instruments, as well as a method to evaluate instruments that are being considered for purchase. The slide is designed with markings having known distances to determine resolution and allows for the quantification of spatial data.

Use of Targeted Bone Marrow Cell Infiltration To Induce Pigmentation and Hair Growth in Skin

Riccardo Cassiani-Ingoni (NINDS); U.S. Provisional Application filed 18 Mar 2005

(DHHS Reference No. E-343-2004/0-US-01)

Licensing Contact: Fatima Sayyid; (301) 435-4521; sayyidf@mail.nih.gov

A long standing problem in skin research has been the difficulty of inducing stem cells such as bone marrow cells, to infiltrate the skin. Such infiltration could be the basis of numerous therapeutic intraventions. The present invention describes a method of using localized inflammation to induce targeted bone marrow cell effects in the skin. Among the conditions treated in the preliminary trials are hair and pigmentation loss.

Alopecia (hair loss) is a common condition that results from diverse causes such as altered physiology, surgical trauma and/or certain drugs. The present invention relates to methods of increasing hair growth and melanocyte proliferation. Such methods include administration of bone marrow cells, an agent that mobilizes bone marrow cells or a combination thereof.

Creation and Characterization of Carcinogen-Altered Mouse Epidermal Cell Lines

Stuart H. Yuspa (NCI)

DHHS Reference No. E-154-2004/0—Research Tool

Licensing Contact: Jesse S. Kindra; (301) 435-5559; kindraj@mail.nih.gov

The invention relates to the creation of three (3) cell lines that may be used as models of putative initiated cancer cells. The cell lines can be used in basic research assays and low/high throughput screening assays.

Cell line 308 evolved from a calcium-resistant focus from adult mouse epidermis that was exposed to the carcinogen, 7,12-dimethylbenz[a]anthracene (DMBA). Cell lines F and D were derived by treating primary newborn mouse epidermal cells in culture with N-methyl-N'-nitro-N-nitrosoguanidine (MNNG) and DMBA, respectively. These three (3) nontumorigenic cell lines derived from differentiation-resistant, carcinogen-induced foci may be considered to be putative initiated cells.

The creation and characterization of the cell lines was published in Yuspa and Morgan, 1981, “Mouse Skin Cells Resistant to Terminal Differentiation Associated with Initiation of Carcinogenesis,” Nature, vol. 72-74; and Hennings et al., 1987, “Response of Carcinogen-Altered Mouse Epidermal Cells to Phorbol Ester Tumor Promoters and Calcium,” The Society for Investigative Dermatology, Inc., vol. 88, no. 1, 60-65.

Conditionally Immortalized Cell Line of Metanephric Mesenchyme

Zoia B. Levashova et al. (NCI)

DHHS Reference No. E-181-2001/0—Research Tool

Licensing Contact: Marlene Shinn-Astor; (301) 435-4426; shinnm@mail.nih.gov

An immortalized rat cell line with characteristics of undifferentiated kidney blastemal cells has been established (Kidney Int. 60:2075, 2003). Not only can these cells be maintained in culture, but they retain the capacity to differentiate into epithelial-like cells. This cell line may have utility in studying the molecular mechanisms of mesenchymal-epithelial conversion, kidney development, and kidney tumorigenesis. It may also have future application in the development of renal xenographs or other forms of kidney tissue transplantation.

A Transgenic Mouse Model for Tetracycline Regulation of Active TGFbeta1 in Mice: tetO TGFbeta1

Adam B. Glick (NCI)

DHHS Reference No. E-300-1999/0—Research Tool.

Licensing Contact: Marlene Shinn-Astor; (301) 435-4426; shinnm@mail.nih.gov

Many human cancers and other skin ailments arise from overexpression of the polypeptide TGFbeta1 growth factor. This growth factor is a growth inhibitor whose function involves cell differentiation and development. It is thought that overexpression of this protein is a contributing factor in many diseases, including certain cancers and dermal fibrosis.

There is a need for mouse models that can exhibit overexpression of TGFbeta1 in a locally specific manner. Such is the technology being made available. The technology relates to a mouse model where the overexpression in epithelial cells is achieved via the bigenic tetracycline regulatory system. Expression of tetO TGFbeta1 occurs when the mice are bred with a second transgenic line expressing the transactivator tTa or rTa. The rTa or tTa have been coupled with keratin 5 promoters, enabling localized activation of tetO TGFbeta1 in the presence or absence of tetracyclines upon successful mating. The potential uses of these models is invaluable and can assist similar research involving different tissue specificity.

Dated: April 14, 2005.
Steven M. Ferguson,
Director, , Division of Technology Development and Transfer, Office of Technology Transfer, National Institutes of Health.

[FR Doc. 05-8546 Filed 4-28-05; 8:45 am]

BILLING CODE 4140-01-P